DEPARTMENT OF ENERGY

Federal Energy Regulation Commission

Notice of Application Accepted for Filing and Soliciting Motions To Intervene and Protests

March 29, 2000.

Take notice that the following hydroelectric application has been accepted by the Commission and is available for public inspection.

a. Type of Application: Subsequent License.

b. Project No.: 2724-023.

b. Date filed: September 30, 1999.

d. Applicant: City of Hamilton, Ohio.

e. Name of Project: City of Hamilton Hydroelectric Project.

f. Location: Ford Canal and Great Miami River, Butler County, Ohio. The project would not utilize federal lands.

g. Filed Pursuant to: Federal Power Act 16 U.S.C. 791(a)-825(r).

h. Applicant Contact: Mr. Michael Perry, Electric Department, 10 Journal Square, Suite 300, Hamilton, Ohio, 450111, or telephone (513) 868-5907.

i. FERC Contact: Nick Jayjack at (202) 219-2825, E-mail address nicholas.jayjack@ferc.fed.us.

j. Deadline for filing motions to intervene and protests is 60 days from the issuance date of this notice.

All documents (original and eight copies) should be filed with: David P. Boergers, Secretary, Federal Energy Regulatory Commission, 888 First Street, NE, Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted, but is not ready for environmental analysis at this time.

l. The project consists of: (1) An 8-foot-high (average), 1,660-foot-long concrete overflow diversion dam; (2) an 8-foot-high (average), 196-foot-long concrete overflow diversion dam; (3) a 3-mile-long power canal; (4) a concrete headgate structure at the canal entrance; (5) a 93-foot-wide by 63-foot-long by 50-foot-high powerhouse with an installed capacity of 1,500 kilowatts (kW) to be upgraded to 1,940 kW (the turbine-generator units are currently capable of producing 1,940 kW; however, system governors limit output to 1,500 kW); (6) a 21-foot-long spillway adjacent to the powerhouse; (7) a 50-foot-wide, 1,600-foot-long concrete and earthen tailrace; (8) a 0.25-mile-long, 13.2-kilovolt transmission line; (9) generator leads; and (10) appurtenant facilities.

m. A copy of the application is available for inspection and reproduction at the Commission's Public Reference Room, located at 888 First Street, NE, Room 2A, Washington, DC 20426, or by calling (202) 208-1371. The application may be viewed on http://www.ferc.fed.us/online/rims.htm (call (202) 208-2222 for assistance). A copy is also available for inspection and reproduction at the address in item h above.

n. This notice also consists of the following standard paragraphs: B1 and E1.

Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents—The application is not ready for environmental analysis at this time; therefore, the Commission is not now requesting comments, recommendations, terms and conditions, or prescriptions.

When the application is ready for environmental analysis, the Commission will issue a public notice requesting comments, recommendations, terms and conditions, or prescriptions.

All filings must: (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. Any of these documents must be filed by providing the original and the number of copies required by the Commission's regulations to: The Secretary, Federal Energy Regulatory Commission, 888 First Street, NE, Washington, DC 20426. An additional copy must be sent to Director, Division of Project Review, Office of Hydropower Licensing, Federal Energy Regulatory Commission, at the above address. A copy of any protest or motion to intervene must be served upon each representative of the applicant specified in the particular application.

Linwood A. Watson, Jr.,
Acting Secretary.

[FR Doc. 00-8269 Filed 4-3-00; 8:45 am]

BILLING CODE 6717-01-M